FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 14, 2016.

A. Federal Reserve Bank of Chicago (Colette A. Fried, Assistant Vice President) 230 South LaSalle Street, Chicago, Illinois 60690-1414:

1. The Johnson Financial Group, Inc. Voting Trust Agreement dated October 10, 2016, Helen P. Johnson-Leipold as trustee; to join the existing Johnson Family Control Group that was approved on January 31, 2012, to acquire voting shares of Johnson Financial Group, Inc., and thereby indirectly acquire Johnson Bank, both of Racine, Wisconsin.

B. Federal Reserve Bank of Kansas City (Dennis Denney, Assistant Vice President) 1 Memorial Drive, Kansas City, Missouri 64198-0001:

1. Lisa K. Haines, Dallas, Texas, individually, and as trustee, Gary D. Whitcomb, Woodward, Oklahoma, trustee, the Lisa K. Haines Financial Services Trust, Horseshoe Bay, Texas, Julee S. Thummel, Yukon, Oklahoma, individually and as trustee, John T. Phillips, Cashion, Oklahoma, trustee, and the Julee S. Lawrence Financial Services Trust, Horseshoe Bay, Texas; to retain shares and become members of the Haines Control Group, which controls shares of Haines Financial Corp, Oklahoma City, Oklahoma, and thereby control Bank 7, Oklahoma City, Oklahoma.

C. Federal Reserve Bank of Dallas (Robert L. Triplett III, Senior Vice President) 2200 North Pearl Street, Dallas, Texas 75201-2272:

1. Patsy Johnson of Chico, Texas, individually, and Patrick Johnson and Patsy Johnson, both of Chico, Texas, collectively as the “Johnson Family Group”, (i) for Patsy Johnson to retain voting shares and (ii) for the Johnson Family Group to retain control of voting shares and (iii) for the Johnson Family Group to increase their ownership of voting shares of Chico Bancorp, Inc., Chico, Texas and thereby indirectly control First State Bank, Chico, Texas.

Board of Governors of the Federal Reserve System, October 24, 2016.
Yao-Chin Chao,
Assistant Secretary of the Board.

[FR Doc. 2016-26000 Filed 10-26-16; 8:45 am]

BILLING CODE 6210-01-P